DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans. The actions relate to a proposed highway project, Interstate 10 (I-10) from the Los Angeles and San Bernardino county line to Ford Street in Redlands in the Counties of Los Angeles and San Bernardino, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before December 29, 2017. If the Federal law that authorizes judicial review of a claim provides a time period of less than 150 days for filing such claim, then that shorter time period still applies.

FOR FURTHER INFORMATION CONTACT: For Caltrans: Aaron Burton, Senior Environmental Planner, Environmental Special Projects, California Department of Transportation District 8, 464 West Fourth Street, 6th floor, MS 760, San Bernardino, CA 92401 during regular office hours from 8:00 a.m. to 5:00 p.m., Telephone number: (909) 383-2841, email: aaron.burton@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans, and FHWA have taken final agency actions subject to 23 U.S.C. 139(l)(1) by issuing licenses, permits, and approvals for the following highway project in the State of California: I-10 Corridor Project. The I-10 Corridor Project proposes to construct one to two Express Lanes in each direction and associated improvements along a 33-mile segment of the I-10 freeway from the Los Angeles and San Bernardino county line (post mile 44.9/48.3) to Ford Street in Redlands (post mile 0.0/R37.0).

The project is intended to reduce traffic congestion, increase throughput, enhance trip reliability and accommodate long-term congestion management of the I-10 corridor. The project will be constructed in two contracts utilizing the design-build process. The actions by the Federal agencies, and the laws under which such actions were taken, are described in the Final Environmental Impact Statement (FEIS) for the project, approved on May 15, 2017, in the FHWA Record of Decision (ROD) issued on July 6, 2017 and in other documents in the Caltrans' project records. The FEIS, ROD, and other project records are available by contacting Caltrans at the address provided above. The Caltrans FEIS and ROD can be viewed and downloaded from the project Web site at http://gosbcta.com/plans-projects/projects-freeway-I-10Corridor.html.

This notice applies to all Federal agency decisions as of the issuance date of this notice and all laws under which such actions were taken, including but not limited to:

1. National Environmental Policy Act (NEPA) [42 U.S.C. 4321-4351]; Federal-Aid Highway Act [23 U.S.C. 109 and 23 U.S.C. 128].

2. Clean Air Act [42 U.S.C. 7401-7671(q)].

3. Section 4(f) of the US Department of Transportation Act of 1966 [49 U.S.C. 303].

4. Endangered Species Act [16 U.S.C. 1531-1544 and Section 1536], Fish and Wildlife Coordination Act [16 U.S.C. 661-667(d)], Migratory Bird Treaty Act [16 U.S.C. 703-712].

5. Section 106 of the National Historic Preservation Act of 1966, as amended [16 U.S.C. 470(f) et seq.]; Archeological Resources Protection Act of 1977 [16 U.S.C. 470(aa)-11]; Archeological and Historic Preservation Act [16 U.S.C. 469 469(c)]; Native American Grave Protection and Repatriation Act (NAGPRA) [25 U.S.C. 3001-3013].

6. Clean Water Act 33 U.S.C. 1251-1387.

7. Farmland Protection Policy Act [7 U.S.C. 4201-4209 and its regulations].

8. E.O. 11990 Protection of Wetlands; E.O. 11988 Floodplain Management; E.O. 12898, Federal Actions to Address Environmental Justice in Minority Populations and Low Income Populations; E.O. 11593 Protection and Enhancement of Cultural Resources; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Shawn E. Oliver,
Team Leader, Environmental and Right-of-Way, Federal Highway Administration, Sacramento, California.

[FR Doc. 2017-16143 Filed 7-31-17; 8:45 am]

BILLING CODE 4910-RY-P